DEPARTMENT OF THE INTERIOR

National Park Service

[NPS-WASO-NRNHL-DTS#-32259; PPWOCRADI0, PCU00RP14.R50000]

National Register of Historic Places; Notification of Pending Nominations and Related Actions

AGENCY: National Park Service, Interior.

ACTION: Notice.

SUMMARY: The National Park Service is soliciting electronic comments on the significance of properties nominated before July 3, 2021, for listing or related actions in the National Register of Historic Places.

DATES: Comments should be submitted electronically by July 30, 2021.

ADDRESSES: Comments are encouraged to be submitted electronically to National_Register_Submissions@nps.gov with the subject line “Public Comment on <property or proposed district name, (County) State.>” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 3, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Pitkin County

Soldner Home and Studio, 0501 Stage Rd., Aspen vicinity, SG100006799

NEBRASKA

Douglas County

Union State Bank Building, 1904 Farnam St., Omaha, SG100006794

Grant County

Abbott Ranch Headquarters, 83857 North NE 61, Hyannis, SG100006795

Washington County

Dana College Campus, 2848 College Dr., Blair, SG100006792

PENNSYLVANIA

Philadelphia County

Leader Theater, 4102-4104 Lancaster Ave., Philadelphia, SG100006793

TEXAS

Travis County

Travis Heights-Fairview Park Historic District, Roughly bounded by Edgecliff Terr., South Congress Ave., East Live Oak St., and Kenwood Ave., Austin, SG100006796

WASHINGTON

King County

Untitled Earthwork-Johnson Pit #30, 21610 37th Place South, SeaTac, SG100006801

Snohomish County

Longfellow Elementary School, 3715 Oakes Ave., Everett, SG100006802

Nomination submitted by Federal Preservation Officer:

The State Historic Preservation Officer reviewed the following nomination and responded to the Federal Preservation Officer within 45 days of receipt of the nomination and supports listing the property in the National Register of Historic Places.

MARYLAND

Montgomery County

NIST Historic District, 100 Bureau Dr., Gaithersburg, SG100006800

Authority: Section 60.13 of 36 CFR part 60.

Dated: July 7, 2021.
Sherry A. Frear,
Chief, National Register of Historic Places/National Historic Landmarks Program.

[FR Doc. 2021-15044 Filed 7-14-21; 8:45 am]

BILLING CODE 4312-52-P